DEPARTMENT OF TRANSPORTATION

Federal Aviation Administration

14 CFR Part 39

[Docket No. 2002-NM-201-AD; Amendment 39-13732; AD 2004-14-23]

RIN 2120-AA64

Airworthiness Directives; Airbus Model A319-111, -112, -113, and -114; A320-111, -211, -212, and -214; and A321-111, -112, and -211 Series Airplanes

AGENCY: Federal Aviation Administration, DOT.

ACTION: Final rule.

SUMMARY: This amendment adopts a new airworthiness directive (AD), applicable to certain Airbus Model A319, A320, and A321 series airplanes, that requires a one-time inspection to identify the serial number of the actuator of the thrust reverser blocker door, and corrective action if necessary. This action is necessary to prevent inadvertent deployment of the thrust reverser door, which could result in reduced controllability of the airplane. This action is intended to address the identified unsafe condition.

DATES: Effective August 23, 2004.

The incorporation by reference of certain publications listed in the regulations is approved by the Director of the Federal Register as of August 23, 2004.

ADDRESSES: The service information referenced in this AD may be obtained from Rohr, Inc., 850 Lagoon Drive, Chula Vista, California 91910-2098. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: We proposed to amend part 39 of the Federal Aviation Regulations (14 CFR part 39) to include an airworthiness directive (AD) that is applicable to certain Airbus Model A319, A320, and A321 series airplanes. That proposed AD was published in the Federal Register on March 11, 2004 (69 FR 11547). That action proposed to require a one-time inspection to identify the serial number of the actuator of the thrust reverser blocker door, and corrective action if necessary.

Comments

Interested persons have been afforded an opportunity to participate in the making of this amendment. We have given due consideration to the comments received.

Support for the Proposed AD

The manufacturer concurs with the content of the proposed AD. The Air Transport Association (ATA) of America, on behalf of its members, reports that the members generally support the intent of the rulemaking.

Request to Revise Proposed Requirements

One commenter suggests that the proposed AD be revised to reidentify the part number of the suspect actuators after rework, to help ensure compliance with the AD. Rohr CFM56-5A/-5B Service Bulletin RA32078-112, described in the proposed AD, specifies marking the label plate of the actuator with the numeral “2” to indicate completion of the actions in the service bulletin. The commenter, however, finds this a vague and confusing way to track compliance with an AD. The commenter adds that, in most cases, compliance with an AD involves changing the part number of the component in question.

We disagree with the request. We find that the addition of the numeral “2” to the label plate will adequately distinguish affected and reworked parts. No change is necessary to the final rule in this regard.

Request to Revise Compliance Time

This same commenter (an operator) requests that the proposed AD be revised to allow 100 flight hours to replace any discrepant actuator. (The proposed AD would require replacement before further flight.) According to the commenter, requiring immediate replacement would result in a limited number of airplanes that could be inspected at one time and a limited number of maintenance stations available to do the work, whereas the requested extension of time would allow operators to inspect multiple airplanes at multiple maintenance stations simultaneously. The commenter reports that the spare actuators are typically available at only one or two maintenance stations. The commenter states that, in light of the proposed compliance time to inspect (up to 7,000 flight cycles since the last overhaul), an additional 100 flight hours to replace the actuator would not adversely affect safety. (The commenter does not provide further support for the previous statement.)

We do not agree with the commenter's request to allow temporary flight with known discrepant actuators—without interim measures in place to ensure the continued operational safety of these airplanes. As a matter of law, to be airworthy an airplane must be in a condition for safe operation. Immediate replacement of a discrepant actuator is therefore required to correct the unsafe condition and ensure that the airplane is operated in an airworthy condition, as required by the Federal Aviation Regulations. The compliance time for the inspection specified in paragraph (b) of this AD should allow operators ample time to schedule both the inspection and any necessary corrective action at the same time. The proposed AD, issued in March 2004, advised affected operators of our plans to require the inspections and corrective action; the service bulletin cited in that NPRM has been available since February 2002. Therefore, we find that operators have had sufficient time to incorporate the required and conditional actions into their individual maintenance plans. However, according to the provisions of paragraph (e) in this final rule, we might approve requests to allow flight for an interim period if the request includes data or interim procedures that would ensure that an acceptable level of safety would be maintained. We have not changed the final rule regarding this issue.

Conclusion

After careful review of the available data, including the comments noted above, we have determined that air safety and the public interest require the adoption of the rule with the change described previously. We have determined that this change will neither increase the economic burden on any operator nor increase the scope of the AD.

Cost Impact

We estimate that 551 airplanes of U.S. registry will be affected by this AD. It will take about 4 work hours per airplane to identify the actuator part numbers, at an average labor rate of $65 per work hour. Based on these figures, the cost impact of this AD on U.S. operators is estimated to be $143,260, or $260 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-14-23 Airbus: Amendment 39-13732. Docket 2002-NM-201-AD.

Applicability: Model A319-111, -112, -113, and -114; A320-111, -211, -212, and -214; and A321-111, -112, and -211 series airplanes; certificated in any category; powered by CFM56-5A or -5B engines having any thrust reverser blocker door actuator part number D23090000-6.

Compliance: Required as indicated, unless accomplished previously.

To prevent inadvertent deployment of the thrust reverser door, which could result in reduced controllability of the airplane, accomplish the following:

Repair History

(a) If, from a review of the maintenance records, it can be positively determined that the thrust reverser blocker door actuator was never overhauled by “TRW—Lucas Repair Center—Englewood, New Jersey,” then no further work is required by this AD.

Inspection

(b) Before the actuator of the thrust reverser blocker door accumulates 7,000 total flight cycles since its last overhaul, or within 500 flight hours after the effective date of this AD, whichever occurs later: Do a general visual inspection to identify the part number and serial number of the actuator, in accordance with Rohr CFM56-5A/-5B Service Bulletin RA32078-112, Revision 1, dated February 6, 2002. Look for affected serial numbers as listed in paragraph 1.A(1) of the service bulletin.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(1) If no affected serial number is found, no more work is required by this paragraph.

(2) If any affected serial number is found: Before further flight after doing the inspection required by paragraph (b) of this AD, replace the affected actuator with a new or reworked part in accordance with the service bulletin.

(c) An inspection and rework done before the effective date of this AD in accordance with Rohr CFM56-5A/-5B Service Bulletin RA32078-112, dated October 22, 2001, is acceptable for compliance with the applicable requirements of this AD.

Parts Installation

(d) As of the effective date of this AD, no person may install, on any airplane, an actuator of the thrust reverser blocker door having a part number and serial number listed in paragraph 1.A.(1) of Rohr CFM56-5A/-5B Service Bulletin RA32078-112, Revision 1, dated February 6, 2002, unless the actuator has been reworked in accordance with the service bulletin.

Alternative Methods of Compliance

(e) In accordance with 14 CFR 39.19, the Manager, International Branch, ANM-116, FAA, Transport Airplane Directorate, is authorized to approve alternative methods of compliance for this AD.

Incorporation by Reference

(f) Unless otherwise specified in this AD, the actions must be done in accordance with Rohr CFM56-5A/-5B Service Bulletin RA32078-112, Revision 1, dated February 6, 2002. This incorporation by reference was approved by the Director of the Federal Register in accordance with 5 U.S.C. 552(a) and 1 CFR part 51. Copies may be obtained from Rohr, Inc., 850 Lagoon Drive, Chula Vista, California 91910-2098. Copies may be inspected at the FAA, Transport Airplane Directorate, 1601 Lind Avenue, SW., Renton, Washington; or at the National Archives and Records Administration (NARA). For information on the availability of this material at NARA, call (202) 741-6030, or go to: http://www.archives.gov/federal_ register/code_of_ federal_regulations/ibr_locations.html.

Note 2: The subject of this AD is addressed in French airworthiness directive 2002-337(B) R1, dated July 24, 2002.

Effective Date

(g) This amendment becomes effective on August 23, 2004.

Issued in Renton, Washington, on July 1, 2004.
Kalene C. Yanamura,
Acting Manager, Transport Airplane Directorate, Aircraft Certification Service.

[FR Doc. 04-16004 Filed 7-16-04; 8:45 am]

BILLING CODE 4910-13-P